DEPARTMENT OF HOMELAND SECURITY

Federal Emergency Management Agency

[Docket ID FEMA-2017-0002; Internal Agency Docket No. FEMA-B-1745]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 10, 2018.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1745, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: September 16, 2017.
Roy E. Wright,
Deputy Associate Administrator for Insurance and Mitigation, Department of Homeland Security, Federal Emergency Management Agency.

I. Watershed-based studies:

Community | Community map repository address
Middle Brazos-Palo Pinto Watershed
Maps Available for Inspection Online at: http://www.fema.gov/preliminaryfloodhazarddata
Eastland County, Texas and Incorporated Areas
City of Ranger | City Hall, 400 West Main Street, Ranger, TX 76470.
Unincorporated Areas of Eastland County | Eastland County Judge's Office, 100 West Main Street, Suite 203, Eastland, TX 76448.
Erath County, Texas and Incorporated Areas
Unincorporated Areas of Erath County | Erath County Courthouse, 100 West Washington Street, Stephenville, TX 76401.
Hood County, Texas and Incorporated Areas
City of DeCordova | DeCordova Bend Estates Country Club, 5301 Country Club Drive, Granbury, TX 76049.
City of Granbury | Municipal Building, 401 North Park Street, Granbury, TX 76048.
Unincorporated Areas of Hood County | Hood County Environmental Health Department, 201 West Bridge Street, Granbury, TX 76048.
Johnson County, Texas and Incorporated Areas
Unincorporated Areas of Johnson County | Johnson County Public Works Department, Johnson County Annex, 2 North Mill Street, Suite 305, Cleburne, TX 76033.
Palo Pinto County, Texas and Incorporated Areas
City of Graford | City Hall, 424 East Lee Avenue, Graford, TX 76449.
City of Mineral Wells | City Clerk's Office, 115 Southwest 1st Street, Mineral Wells, TX 76067.
City of Mingus | City Hall, 229 South Mingus Boulevard, Mingus, TX 76463.
City of Strawn | City Hall, 118 East Housley Street, Strawn, TX 76475.
Town of Gordon | Town Hall, 105 South Main Street, Gordon, TX 76453.
Unincorporated Areas of Palo Pinto County | Palo Pinto County 911 Office, 520 Oak Street, Palo Pinto, TX 76484.
Parker County, Texas and Incorporated Areas
City of Millsap | City Hall, 208 Fannin Street, Millsap, TX 76066.
City of Mineral Wells | City Clerk's Office, 115 Southwest 1st Street, Mineral Wells, TX 76067.
City of Weatherford | Utilities Service Center, 917 Eureka Street, Weatherford, TX 76086.
Town of Cool | Cool Community Center, 150 South Farm to Market Road 113, Millsap, TX 76066.
Unincorporated Areas of Parker County | Parker County Permitting Department, 1114 Santa Fe Drive, Weatherford, TX 76086.
Stephens County, Texas and Incorporated Areas
Unincorporated Areas of Stephens County | Stephens County Judge's Office, 200 West Walker Street, Breckenridge, TX 76424.
Young County, Texas and Incorporated Areas
Unincorporated Areas of Young County | Young County 911 Director's Office, 516 4th Street, Room B5, Graham, TX 76450.

II. Non-watershed-based studies:

Community | Community map repository address
Garrett County, Maryland and Incorporated Areas
Maps Available for Inspection Online at: http://www.fema.gov/preliminaryfloodhazarddata
Project: 11-03-0525S Preliminary Date: January 6, 2017
Unincorporated Areas of Garrett County | Garrett County Courthouse Administrative Building, Department of Permits and Inspection Services, 203 South 4th Street, Room 208, Oakland, MD 21550.
Wayne County, Pennsylvania (All Jurisdictions)
Maps Available for Inspection Online at: http://www.fema.gov/preliminaryfloodhazarddata
Project: 16-03-2419S Preliminary Date: February 16, 2017
Borough of Prompton | Prompton Fire Hall, 638 Prompton Road, Prompton, PA 18456.
Township of Canaan | Canaan Township Secretary's Office, 1327 Roosevelt Highway, Waymart, PA 18472.
Township of Texas | Texas Township Municipal Building, 506 Willow Avenue, Honesdale, PA 18431.
Grant County, West Virginia and Incorporated Areas
Maps Available for Inspection Online at: http://www.fema.gov/preliminaryfloodhazarddata
Project: 11-03-0525S Preliminary Date: January 6, 2017
Town of Bayard | Town Hall, 101 Spruce Street, Suite 1, Bayard, WV 26707.
Unincorporated Areas of Grant County | Grant County Courthouse, 5 Highland Avenue, Petersburg, WV 26847.

[FR Doc. 2017-22030 Filed 10-11-17; 8:45 am]

BILLING CODE 9110-12-P